DEPARTMENT OF COMMERCE

National Oceanic and Atmospheric Administration

[RTID 0648-XV154]

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Climate Change Taskforce will meet January 13, 2020 through January 15, 2020.

DATES: The meeting will be held on Monday, January 13, 2020, from 1 p.m. to 5 p.m.; January 14, from 9 a.m. to 5 p.m.; and on January 15, from 9 a.m. to 2 p.m., Pacific Standard Time.

ADDRESSES: The meeting will be held in the Goodman A at the Mountaineers Club 7700 Sand Point Way NE, Seattle, WA 98115. Teleconference number is (907) 245-3900, pin 2809.

Council address: North Pacific Fishery Management Council, 1007 W 3rd Ave, Anchorage, AK 99501-2252; telephone: (907) 271-2809.

FOR FURTHER INFORMATION CONTACT: Diana Stram, Council staff; telephone: (907) 271-2806.

SUPPLEMENTARY INFORMATION:

Agenda

Monday, January 13 Through Wednesday, January 15, 2020

The agenda will include: (a) Review of Bering Sea Fishery Ecosystem Plan (FEP) establishing Taskforce and Taskforce objectives; (b) Review of existing regional climate change initiatives, research and on-going modeling efforts; (c) the elements and timing of work required to meet Taskforce objectives; (d) development of a workplan; (e) outreach and communication; and (f) other business. The agenda is subject to change, and the latest version will be posted at https://meetings.npfmc.org/Meeting/Details/1203 prior to the meeting, along with meeting materials.

Public Comment

Public comment letters will be accepted and should be submitted either electronically to https://meetings.npfmc.org/Meeting/Details/1203 or through the mail: North Pacific Fishery Management Council, North Pacific Fishery Management Council, 1007 W 3rd Ave, Anchorage, AK 99501-2252; telephone: (907) 271-2809.

Special Accommodations

These meetings are physically accessible to people with disabilities. Requests for sign language interpretation or other auxiliary aids should be directed to Shannon Gleason at (907) 271-2809 at least 7 working days prior to the meeting date.

Authority: 16 U.S.C. 1801 et seq.

Dated: December 18, 2019.
Tracey L. Thompson,
Acting Deputy Director, Office of Sustainable Fisheries, National Marine Fisheries Service.

[FR Doc. 2019-27639 Filed 12-20-19; 8:45 am]

BILLING CODE 3510-22-P